DEPARTMENT OF LABOR

Mine Safety and Health Administration

[Docket Number MSHA-2013-0037]

Criteria to Certify Coal Mine Rescue Teams

AGENCY: Mine Safety and Health Administration, Labor.

ACTION: Notice of availability; request for comments.

SUMMARY: The Mine Safety and Health Administration (MSHA) is requesting comments on revised instruction guides for coal mine rescue team training. MSHA prescribes training materials through the issuance of instruction guides. Existing standards for coal mine rescue teams include criteria for mine operators to certify the qualifications of these teams. The Mine Improvement and New Emergency Response (MINER) Act of 2006 requires MSHA to update these criteria every 5 years; this requirement applies only to coal mine rescue teams. The revised instruction guides update existing mine rescue training materials referenced in the criteria to certify coal mine rescue team qualifications. The revised instruction guides provide improved advanced mine rescue training for coal mine rescue teams by including additional exercises to provide more hands-on skills training to enhance team performance when responding to an actual mine emergency.

DATES: Comments must be received by midnight Eastern Standard Time on November 25, 2013.

ADDRESSES: Submit comments and supporting documents by any of the following methods:

• Federal E-Rulemaking Portal:http://www.regulations.gov. Follow the on-line instructions for submitting comments for Docket Number MSHA-2013-0037.

• Mail: Send comments to MSHA, Office of Standards, Regulations, and Variances, 1100 Wilson Boulevard, Room 2350, Arlington, VA 22209-3939.

• Hand Delivery or Courier: MSHA, Office of Standards, Regulations, and Variances, 1100 Wilson Boulevard, Room 2350, Arlington, VA between 9:00 a.m. and 5:00 p.m. Monday through Friday, except Federal holidays. Sign in at the receptionist's desk on the 21st floor.

Instructions: Because comments will not be edited to remove any identifying or contact information, MSHA cautions the commenter against including any information in the submission that should not be publicly disclosed.

FOR FURTHER INFORMATION CONTACT: George F. Triebsch, Director, Office of Standards, Regulations, and Variances, MSHA, at triebsch.george@dol.gov (email); 202-693-9440 (voice); or 202-693-9441 (facsimile). These are not toll-free numbers.

SUPPLEMENTARY INFORMATION:

Underground coal mine operators must designate at least two mine rescue teams to provide mine rescue coverage at an underground coal mine at all times when miners are underground. The MINER Act requires coal mine operators to annually certify the qualifications of these designated teams. MSHA provides the criteria for certifying the qualifications of coal mine rescue teams under 30 CFR 49.50. The MINER Act requires MSHA to update these criteria every 5 years. The revised instruction guides do not change these criteria.

Initial criteria to certify the qualifications of mine rescue teams include: (1) Team is available at all times when miners are underground; (2) Except where alternative compliance is permitted, team has five members and one alternate; (3) Members have experience working in an underground coal mine; (4) Team is available within 1 hour ground travel time from the mine rescue station to the mine; (5) Appropriate mine rescue equipment is provided, inspected, tested, and maintained; (6) Members are physically fit; and (7) Members have completed initial training.

Annual criteria to maintain mine rescue team certification include: (1) Members are properly trained annually; (2) Members are familiar with the operations of each covered mine; (3) Members participate in at least two local mine rescue contests annually; (4) Members participate in mine rescue training at each covered mine; and 5) Members are knowledgeable about the operations and ventilation of each covered mine.

Existing § 49.18(b)(4) requires advanced mine rescue training and procedures as prescribed by MSHA's Office of Educational Policy and Development (EPD). Under this section, EPD prescribes Instruction Guide IG7, “Advanced Mine Rescue Training—Coal Mines”, which includes best practices, handouts, visuals, and text materials for the classroom and activities or exercises for practice using equipment and developing teamwork. MSHA revised this instruction guide to add realistic hands-on exercises for skills training on equipment.

The existing lessons and exercises from the current Instruction Guide IG7 were reorganized. The materials for classroom training are retained as Instruction Guide IG7, “Advanced Mine Rescue Training—Coal Mines”, and the practice exercises are moved to new Instruction Guide IG7a, “Advanced Skills Training—Activities for Coal Mine Rescue Teams”. These revised instruction guides will assist coal mine rescue team trainers in providing team members with the necessary knowledge and skills to respond effectively in the event of an emergency.

MSHA is requesting comments on revised Instruction Guides IG7 and IG7a to improve the quality and effectiveness of instruction and skills training for mine rescue teams. The revised instruction guides are posted on www.regulations.gov and on the Agency's Web site at http://www.msha.gov/MineRescue/Training/TeamTraining.asp.

Authority: 30 U.S.C. 811, 825(e).

Dated: September 16, 2013.
Joseph A. Main,
Assistant Secretary of Labor for Mine Safety and Health.

[FR Doc. 2013-22804 Filed 9-23-13; 8:45 am]

BILLING CODE 4510-43-P